DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Anti-Viral Griffithsin Compounds, Compositions, and Methods of Use

Barry R. O'Keefe et al. (NCI)

U.S. Provisional Application No. 60/741,403 filed 01 Dec 2005 (HHS Reference No. E-025-2006/0-US-01).

Licensing Contact: Sally H. Hu, Ph.D., M.B.A.; 301/435-5606; hus@mail.nih.gov.

The invention provides for a composition of an anti-viral polypeptide, Griffithsin, glycosylation-resistant Griffithsin, and related conjugates, compositions, nucleic acids, vectors, host cells, antibodies and methods of production and use. More specifically, Griffithsin inhibits viral binding, fusion and entry into the host cells by binding to viral envelope gp120. Thus, subject invention can be developed as an inhibitor therapeutically or prophylactically against retroviral infections including HIV-1 and HIV-2 as well as FIV, SIV, MLV, BLV, equine infectious virus, avian sarcoma viruses, and HTLV. Subject invention also can be developed as an inhibitor against non-retroviruses infectious such as influenza virus, including H5N1, SARS, Hepatitis C, and Ebola, measles, varicella, human herpes viruses and others. In addition, Griffithsin can be used in combination with other anti-viral agents to treat patients who have drug-resistant virus.

In addition to licensing, the technology is available for further development through collaborative research opportunities with the inventors.

Discovery of Tropolone Inhibitors of HIV-1 Integrase That Can Be Used for the Treatment of Retroviral Infection, Including AIDS

Yves Pommier, Christophe Marchand, Elena Semenova, Allison Johnson (NCI).

U.S. Provisional Application No. 60/741,769 filed 01 Dec 2005 (HHS Reference No. E-308-2005/0-US-01).

Licensing Contact: Sally H. Hu, Ph.D., M.B.A.; 301/435-5606; hus@mail.nih.gov.

This invention provides pharmaceutical compositions comprising one or more HIV-1 integrase inhibitor compounds, as well as methods for treatment or prevention of HIV infection. These compounds are alpha-hydroxytropolone or its salt, solvate or hydrate, and they have been shown to inhibit the integrase by interfering with the enzyme catalytic site by chelating magnesium ions, and have been shown to inhibit the strand transfer reaction. Integrase is an important target for AIDS therapy since it is critical for viral replication, and does not have cellular counterparts, which can potentially reduce toxic side effects. Thus, the compounds of this invention can be developed as novel anti-viral agents that can be used in combinational therapy, especially since they might be less toxic than other anti-viral agents.

In addition to licensing, the technology is available for further development through collaborative research opportunities with the inventors.

Dated: February 10, 2006.
Steven M. Ferguson,
Director, Division of Technology Development and Transfer, Office of Technology Transfer, National Institutes of Health.

[FR Doc. E6-2357 Filed 2-16-06; 8:45 am]

BILLING CODE 4140-01-P